DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Residential Building or Zoning Permit Systems.

OMB Control Number: 0607-0350.

Form Number(s): C-411(V), C-411(M), C-411(C).

Type of Request: Reinstatement, without change, of an expired collection.

Number of Respondents: 2,000.

Average Hours per Response: 15 minutes.

Burden Hours: 500.

Needs and Uses: The U.S. Census Bureau is requesting reinstatement of the recently expired Form C-411, “Survey of Residential Building or Zoning Permit Systems.” The Census Bureau produces statistics used to monitor activity in the large and dynamic construction industry. These statistics help state and local governments and the federal government, as well as private industry, to analyze this important sector of the economy. The accuracy of the Census Bureau statistics regarding the amount of construction authorized depends on data supplied by building and zoning officials throughout the country. The Census Bureau uses Form C-411 to obtain information from state and local building permit officials needed for updating the universe of permit-issuing places which serves as the sampling frame for the Report of Privately-Owned Residential Building or Zoning Permits Issued (OMB number 0607-0094), also known as the Building Permits Survey (BPS), and the Survey of Housing Starts, Sales, and Completions (OMB number 0607-0110), also known as Survey of Construction (SOC). These two sample surveys provide widely used measures of construction activity, including the principal economic indicators New Residential Construction and New Home Sales. Data from the BPS and SOC are also used by the Bureau of Economic Analysis (BEA) in the calculation of estimates of the Residential Fixed Investment portion of the Nation's Gross Domestic Product (GDP). In addition, data from the BPS are used by the Census Bureau in the calculation of annual population estimates; these estimates are widely used by government agencies to allocate funding and other resources to local governments.

The questions on Form C-411 pertain to the legal requirements for issuing building or zoning permits in the local jurisdictions. Information is obtained on such items as geographic coverage and types of construction for which permits are issued.

No changes are planned to the C-411(V) form. We have updated the form layouts of forms C-411(M) and C-411(C) to provide clarification and improve questionnaire flow.

The appropriate form is sent to a jurisdiction when the Manufacturing and Construction Division (MCD) has reason to believe that a new permit system has been established or an existing one has changed. This is based on information from a variety of sources including survey respondents, regional councils and the Census Bureau's Geography Division which keeps abreast of changes in corporate status. Responses typically approach 85 percent.

We use the information to verify the existence of new permit systems or changes to existing systems. Based on the information, we add new permit-issuing places to the universe, delete places no longer issuing permits, and make changes to the universe to reflect those places that have merged.

Failure to maintain the universe of permit-issuing places would result in deficient samples and inaccurate statistics. This in turn jeopardizes the accuracy of the above mentioned economic indicators. These indicators are closely monitored by the Board of Governors of the Federal Reserve System and other economic policy makers because of the sensitivity of the housing industry to changes in interest rates.

Affected Public: State, local or Tribal government.

Frequency: On occasion.

Respondent's Obligation: Voluntary.

Legal Authority: Title 13, United States Code, Sections 9(b), 161, and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: March 18, 2015.
Glenna Mickelson,
Management Analyst, Office of the Chief Information Officer.

[FR Doc. 2015-06597 Filed 3-23-15; 8:45 am]

BILLING CODE 3510-07-P